DEPARTMENT OF TRANSPORTATION

Surface Transportation Board

[STB Finance Docket No. 33857]

Colorado, Kansas & Pacific Railway Company—Lease, Operation, and Future Purchase Exemption—Colorado Department of Transportation

Colorado, Kansas & Pacific Railway Company (CKPR), a noncarrier, has filed a verified notice of exemption under 49 CFR 1150.31. CKPR has entered into an agreement with the Colorado Department of Transportation (CDOT) whereby CKPR will lease and initiate common carrier operations over an abandoned line of railroad between milepost 747.5, near Towner, and milepost 869.4, near NA Junction, in Kiowa, Crowley, and Pueblo Counties, CO, a distance of approximately 121.9 route miles (rail line). In addition, the agreement grants CKPR the right to purchase the rail line under specified conditions on or before December 31, 2001.

The parties report that they intended to consummate the transaction on or about March 29, 2000. The earliest the transaction could have been consummated was March 29, 2000, 7 days after the exemption was filed.

This transaction is related to STB Finance Docket No. 33856, Court Hammond, et al.—Continuance in Control Exemption—Colorado Central Railroad Company and Colorado, Kansas & Pacific Railway Company, wherein Court Hammond, et al. have concurrently filed a verified notice to continue in control of Colorado Central Railroad Company and CKPR upon their becoming Class III rail carriers.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33857, must be filed with the Surface Transportation Board, Office of the Secretary, Case Control Unit, 1925 K Street, NW, Washington, DC 20423-0001. In addition, a copy of each pleading must be served on John D. Heffner, Esq., 1707 L Street, NW, Suite 570, Washington, DC 20036.

Board decisions and notices are available on our website at “WWW.STB.DOT.GOV.”

Decided: March 31, 2000.
By the Board, David M. Konschnik, Director, Office of Proceedings.
Vernon A. Williams,
Secretary.

[FR Doc. 00-8575 Filed 4-6-00; 8:45 am]

BILLING CODE 4915-00-P